DEPARTMENT OF COMMERCE

International Trade Administration

[A-570-122]

Certain Corrosion Inhibitors From the People's Republic of China: Notice of Initiation and Preliminary Results of Antidumping Duty Changed Circumstances Review

AGENCY: Enforcement and Compliance, International Trade Administration, Department of Commerce.

SUMMARY: In response to a request for a changed circumstances review (CCR), the U.S. Department of Commerce (Commerce) is initiating a CCR of the antidumping duty (AD) order on certain corrosion resistant inhibitors (corrosion inhibitors) from the People's Republic of China (China). Additionally, Commerce preliminarily determines that Kanghua Chemical Co., Ltd. (Chuzhou Kanghua) is the successor-in-interest to Nantong Kanghua Chemical Co., Ltd. (Nantong Kanghua). Interested parties are invited to comment on these preliminary results.

DATES: Applicable November 23, 2022.

FOR FURTHER INFORMATION CONTACT: Hermes Pinilla, AD/CVD Operations, Office VI, Enforcement and Compliance, International Trade Administration, U.S. Department of Commerce, 1401 Constitution Avenue NW, Washington, DC 20230; telephone: (202) 482-3477.

SUPPLEMENTARY INFORMATION:

Background

On March 19, 2019, Commerce published the AD order on corrosion inhibitors from China in the Federal Register.¹ On August 30, 2022, Chuzhou Kanghua requested that Commerce initiate a changed circumstances review of the Order to determine that it is the successor-in-interest to Nantong Kanghua.² We did not receive comments from interested parties concerning this request. On September 8, 2022, Commerce requested additional information from Chuzhou Kanghua to determine whether to initiate the requested CCR.³

¹ See Certain Corrosion Inhibitors from the People's Republic of China, and Antidumping Duty Orders, 86 FR 14869 (March 19, 2021) (Order).

² See Chuzhou Kanghua's Letter, “Certain Corrosion Inhibitors from the People's Republic of China, A-570-122; Changed Circumstances Review (Kanghua),” dated August 30, 2022 (CCR Request). We note that the actual request contained a typographical error referencing a different proceeding and case number. We clarified with counsel that the correct case name is “Certain Corrosion Inhibitors from the People's Republic of China, A-570-122.” See Memorandum, “Antidumping Administrative Review of Certain Corrosion Inhibitors from the People's Republic of China: Communication with Counsel Concerning its Request for a Changed Circumstance Review,” dated September 29, 2022.

³ See Chuzhou Kanghua's Letter “Certain Corrosion Inhibitors from the People's Republic of China, A-570-122; Changed Circumstances Review (Kanghua); Response to Supplemental Questionnaire,” dated September 15, 2022. We note that the response to the supplemental questionnaire contains typographical errors that reference another proceeding and case number. However, counsel clarified that the correct case is “Certain Corrosion Inhibitors from the People's Republic of China, A-570-122.” See Memorandum, “Antidumping Administrative Review of Certain Corrosion Inhibitors from the People's Republic of China: Communication with Counsel Concerning its Request for a Changed Circumstance Review,” dated September 29, 2022.

On October 7, 2022, we extended the deadline to initiate the CCR.⁴ Additionally, on October 7, 2022, we sent Chuzhou Kanghua a supplemental questionnaire.⁵ On October 11, 2022, Chuzhou Kanghua submitted its response to our supplemental questionnaire.⁶ Commerce received no comments from interested parties on Chuzhou Kanghua's CCR Request or its supplemental questionnaire responses.

⁴ See Commerce's Letter, “Request for a Changed Circumstances Review of the Antidumping Duty Order on Certain Corrosion Inhibitors from the People's Republic of China: Extension of Initiation Deadline,” dated October 7, 2022.

⁵ See Commerce's Letter, “Request for a Changed Circumstances Review of the Antidumping Duty Order on Certain Corrosion Inhibitors from the People's Republic of China: Second Supplemental Questionnaire,” dated October 7, 2022.

⁶ See Chuzhou Kanghua's Letter, “Certain Corrosion Inhibitors from the People's Republic of China, A-570-122; Changed Circumstances Review (Kanghua); Response to Supplemental Questionnaire,” dated October 11, 2022 (Chuzhou Kanghua's 2nd Supplemental Response).

Scope of the Order

The merchandise covered by the Order is corrosion inhibitors from China. For a full description of the merchandise covered by the scope of Order, see the Preliminary Decision Memorandum.⁷

⁷ See Memorandum, “Certain Corrosion Inhibitors from the People's Republic of China: Initiation and Preliminary Results of the Changed Circumstances Review,” dated concurrently with, and hereby adopted by, this notice (Preliminary Decision Memorandum).

Initiation of Changed Circumstances Reviews

Pursuant to section 751(b)(1) of the Tariff Act of 1930, as amended (the Act), and 19 CFR 351.216, Commerce will conduct a CCR of an order upon receipt of information or a review request from an interested party for a review of an order which shows changed circumstances sufficient to warrant a review of the order.⁸

⁸ See 19 CFR 351.216(c).

Under 19 CFR 351.216(c), Commerce will not review a final determination of an investigation less than 24 months after the date of publication of notice of the final determination unless it finds that good cause exists. However, 19 CFR 351.216(d) provides that if Commerce determines that good cause exists and the changed circumstances are sufficient to warrant a review, it will conduct a CCR, in accordance with 19 CFR 351.221.

Based on the record information, Commerce has determined that, pursuant to 19 CFR 351.216(c), good cause exists to conduct a CCR. Chuzhou Kanghua requested a CCR because of a change in name of the company and address not contemplated during the original investigation.⁹ In addition, Chuzhou Kanghua explained and provided information to support its claim that there are no significant changes made to the production facility, management, customer/supplier relationship or any other aspect of operation.¹⁰ Chuzhou Kanghua further explains that absent such a review, it would have difficulties in making entry of goods into the United States under the rate properly assigned to it.¹¹

⁹ See Chuzhou Kanghua's 2nd Supplemental Response at 1.

¹⁰ Id.

¹¹ Id. at 2.

The information submitted by Chuzhou Kanghua demonstrates that its request is based solely on a change in the Chinese name of the company from “Nantong Kanghua Chemical Co., Ltd” to “Kanghua Chemical Co., Ltd,” which was approved on February 17, 2022.¹²

¹² See CCR Request at Exhibit 1.

As such, based of the reasons outlined above, and the information provided on the record by Chuzhou Kanghua, we find good cause exists for initiating a CCR to determine whether Chuzhou Kanghua is the successor-in-interest to Nantong Kanghua, in accordance with 19 CFR 351.216(c) and (d). Therefore, in accordance with section 751(b)(1) of the Act and 19 CFR 351.216, we are initiating a CCR to determine whether Chuzhou Kanghua is the successor-in-interest to Nantong Kanghua for purposes of the Order.

Preliminary Results

Commerce is permitted by 19 CFR 351.221(c)(3)(ii) to combine the notice of initiation of a CCR and the preliminary results if Commerce concludes that expedited action is warranted. In this instance, because the record contains information necessary to make a preliminary finding, we find that expedited action is warranted and have combined the notice of initiation and the preliminary results.

Accordingly, pursuant to section 751(b) of the Act, we have conducted a successor-in-interest analysis in response to Chuzhou Kanghua's request. For a complete discussion of the information that Chuzhou Kanghua provided, and the complete successor-in-interest analysis, see the Preliminary Decision Memorandum.¹³ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹³ See Preliminary Decision Memorandum.

Should our final results remain unchanged from these preliminary results, we will instruct U.S. Customs and Border Protection to assign entries of subject merchandise exported by Chuzhou Kanghua the AD cash deposit rate applicable to Nantong Kanghua. Commerce will issue its final results of the review in accordance with the time limits set forth in 19 CFR 351.216(e).

Public Comment

In accordance with 19 CFR 351.309(c)(1)(ii), interested parties may submit case briefs not later than 30 days after the date of publication of this notice. Rebuttal briefs, limited to issues raised in the case briefs, may be filed no later than seven days after the case briefs, in accordance with 19 CFR 351.309(d). Parties who submit case or rebuttal briefs are encouraged to submit with each argument: (1) a statement of the issue; (2) a brief summary of the arguments; and (3) a table of authorities.¹⁴ All comments must be filed electronically using ACCESS. An electronically filed document must be received successfully in its entirety by ACCESS by 5:00 p.m. Eastern Time on the established deadline.¹⁵ Note that Commerce has temporarily modified certain of its requirements for service documents containing business proprietary information, until further notice.¹⁶

¹⁴ See 19 CFR 351.309(c)(2).

¹⁵ See 19 CFR 351.303(b).

¹⁶ See Temporary Rule Modifying AD/CVD Service Requirements Due to Covid-19; Extension of Effective Period, 85 FR 41363 (July 10, 2020).

Pursuant to 19 CFR 351.310(c), interested parties who wish to request a hearing must submit a written request via ACCESS within 30 days of publication of this notice. Hearing requests should contain the following information: (1) the party's name, address, and telephone number; (2) the number of participants; and (3) a list of the issues to be discussed. Oral presentations at the hearing will be limited to issues raised in the briefs. If a request for a hearing is made, Commerce intends to hold the hearing at a time and date to be determined. Parties should confirm the date and the time of the hearing two days before the scheduled date.

Consistent with 19 CFR 351.216(e), we will issue the final results of this CCR no later than 270 days after the date on which this review was initiated, or within 45 days if all parties agree to our preliminary finding.

Notification to Interested Parties

This initiation and preliminary results notice is published in accordance with sections 751(b)(1) and 777(i)(1) of the Act, and 19 CFR 351.216(b), 351.221(b), and 351.221(c)(3).

Dated: November 16, 2022.
Lisa W. Wang,
Assistant Secretary for Enforcement and Compliance.

Appendix

List of Topics Discussed in the Preliminary Decision Memorandum

I. Summary

II. Background

III. Scope of the Order

IV. Initiation of the Changed Circumstances Review

V. Preliminary Results of Changed Circumstances Review

VI. Successor-in-Interest Determination

VII. Recommendation

[FR Doc. 2022-25501 Filed 11-22-22; 8:45 am]

BILLING CODE 3510-DS-P